DEPARTMENT OF JUSTICE

8 CFR Ch. V

21 CFR Ch. I

27 CFR Ch. II

28 CFR Ch. I, V

Regulatory Agenda

AGENCY: Department of Justice.

ACTION: Semiannual Regulatory Agenda.

SUMMARY: The Department of Justice is publishing its spring 2023 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW, Washington, DC 20530, (202) 514-8059.

SUPPLEMENTARY INFORMATION: Beginning with the fall 2007 edition, the internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C. 602), the Department of Justice's printed agenda entries include only:

Rules that are in the Agency's regulatory flexibility agenda, in accordance with the Regulatory Flexibility Act, because they are likely to have a significant economic impact on a substantial number of small entities; and any rules that the Agency has identified for periodic review under section 610 of the Regulatory Flexibility Act.

Printing of these entries is limited to fields that contain information required by the Regulatory Flexibility Act's Agenda requirements. Additional information on these entries is available in the Unified Agenda published on the internet.

Susan M. Davies,
Principal Deputy Assistant Attorney General, Office of Legal Policy.

Civil Rights Division—Proposed Rule Stage
Sequence No. | Title | Regulation Identifier No.
124 | Nondiscrimination on the Basis of Disability: Accessibility of Web Information and Services of State and Local Government Entities | 1190-AA79

DEPARTMENT OF JUSTICE (DOJ)

Civil Rights Division (CRT)

Proposed Rule Stage

124. Nondiscrimination on the Basis of Disability: Accessibility of Web Information and Services of State and Local Government Entities [1190-AA79]

Legal Authority: 42 U.S.C. 12101 et seq.

Abstract: The Americans with Disabilities Act (ADA) states that, “no qualified individual with a disability shall, by reason of such disability, be excluded from participation in or be denied the benefits of services, programs, or activities of a public entity, or be subjected to discrimination by any such entity.” 42 U.S.C. 12132. However, many public entities' (i.e., State and local governments) websites and mobile apps fail to incorporate or activate features that enable users with disabilities to access the public entity's services, programs, and activities. The Department intends to publish a Notice of Proposed Rulemaking (NPRM) to amend its title II ADA regulation to provide technical standards to assist public entities in complying with their existing obligations to make their websites and mobile apps accessible to individuals with disabilities.

Timetable:

Action | Date | FR Cite
NPRM | 06/00/23
NPRM Comment Period End | 08/00/23

Regulatory Flexibility Analysis Required: Yes.

Agency Contact: Rebecca Bond, Chief, Disability Rights Section, Department of Justice, Civil Rights Division, 4 Constitution Square, 150 M Street NE, Washington, DC 20002, Phone: 202 307-0663.

RIN: 1190-AA79

[FR Doc. 2023-14547 Filed 7-26-23; 8:45 am]

BILLING CODE 4410-BP-P